LIBRARY OF CONGRESS

Copyright Office

[Docket No. 2003-4]

Notice of New Copyright Office Seal

AGENCY: Copyright Office, Library of Congress.

ACTION: Notice of New Copyright Office Seal.

SUMMARY: The Copyright Office of the Library of Congress is adopting a new official seal to authenticate copyright registrations, certifications of documents and other official documents. This new seal will replace the seal used by the Copyright Office since January 1, 1978.

DATES: The new official seal will become effective on January 1, 2004.

ADDRESSES: Office of the General Counsel, Copyright GC/I&R, PO Box 70400, Southwest Station, Washington, DC 20024-0400.

FOR FURTHER INFORMATION CONTACT: Robert Kasunic: (202) 707-8380.

SUPPLEMENTARY INFORMATION: Notice is hereby given that, pursuant to section 701(c) of title 17 of the United States Code, as enacted by Pub. L. 94-553 and amended by Pub. L. 105-304, the Register of Copyrights has adopted a new seal to authenticate all official documents issued by the Copyright Office. The new seal will become effective on January 1, 2004, and all documents bearing this seal issued by the Copyright Office will be authenticated and shall be judicially noticed.

The new Copyright Office seal is circular and consists of a capital letter C in a circle with stylized representation of an eagle and shield perched on the lower limb of the C. The eagle and the C are depicted on a field of horizontal bands enclosed by the circle. This group is encircled by the words “Seal of the United States Copyright Office” and the date 1870 set in the Zealand Bold type font. A representation of the new seal is shown immediately below.

The previous seal used by the Copyright Office from January 1, 1978, until December 31, 2003, will continue to serve as an identifying mark of the Copyright Office.

Dated: December 17, 2003.
Marybeth Peters,
Register of Copyrights.

[FR Doc. 03-31475 Filed 12-19-03; 8:45 am]

BILLING CODE 1410-30-P